DEPARTMENT OF COMMERCE

International Trade Administration

Notice of Scope Rulings

AGENCY: Enforcement and Compliance, International Trade Administration, Department of Commerce.

SUMMARY: The U.S. Department of Commerce (Commerce) hereby publishes a list of scope rulings made during the period July 1, 2025, through September 30, 2025. We intend to publish future lists after the close of the next calendar quarter.

DATES: Applicable January 26, 2026.

FOR FURTHER INFORMATION CONTACT: Brenda E. Brown, AD/CVD Operations, Customs Liaison Unit, Enforcement and Compliance, International Trade Administration, U.S. Department of Commerce, 1401 Constitution Avenue NW, Washington, DC 20230; telephone: 202-482-4735.

SUPPLEMENTARY INFORMATION:

Background

Commerce's regulations provide that it will publish in the Federal Register a list of scope rulings on a quarterly basis.¹ Our most recent notification of scope rulings was published on August 22, 2025.² This current notice covers all scope rulings made by Enforcement and Compliance between July 1, 2025, and September 30, 2025.

¹ See 19 CFR 351.225(o).

² See Notice of Scope Rulings, 90 FR 41057 (August 22, 2025).

Final Scope Rulings

India

A-533-881 and C-533-882: Large Diameter Welded Pipe From India

Requestor: Shawcor Pipe Protection Acquisition Corp. The scope of the antidumping duty (AD) and countervailing duty (CVD) orders on large diameter welded pipe from India indicates that a product is within scope if it is more than 16 inches in outside diameter and may be used to transport oil, gas, slurry, steam, or other fluids, liquids, or gases. Shawcor's large diameter welded pipes classified as Grade L450 steel are within the scope of the AD/CVD orders because the product is 18 inches in outside diameter and can be used to transport oil or gas: September 8, 2025.

People's Republic of China (China)

A-570-967 and C-570-968: Aluminum Extrusions From China

Requestor: IPG Photonics Corporation (IPG). Finished heat sinks are covered by the scope of the AD/CVD orders on aluminum extrusions from China. The scope language states that finished heat sinks are fabricated heat sinks made from aluminum extrusions, the design and production of which are organized around meeting certain specified thermal performance requirements, and which have been fully, albeit not necessarily individually, tested to comply with such requirements. In addition, a finished heat sink must meet all of the following requirements (1) the products at issue must be a fabricated heat sink made from aluminum extrusions; (2) specified thermal performance requirements must exist and the design and production of the products at issue must be organized around meeting such specified thermal performance requirements; and, (3) the products at issue must have been fully, albeit not necessary individually, test to comply with the specified thermal performance requirements. IPG's aluminum extrusions are found to be within the scope of the orders because they are aluminum extrusions from an Aluminum Association series 6 alloy which has been machined. Commerce finds that IPG has not demonstrated that the products at issue were designed and produced to meet specified thermal performance requirements. As a result, the products do not fulfill the criteria for the finished heat sinks exclusion: August 27, 2025.

A-570-831: Fresh Garlic From the People's Republic of China

Requestor: International Golden Foods, Inc. (IGF). The scope of the AD order on fresh garlic from China includes all grades of garlic, whole or separated into constituent cloves, whether or not peeled, fresh, chilled, frozen, provisionally preserved, or packed in water or other neutral substance, but excludes garlic prepared or preserved by the addition of other ingredients or heat processing. IGF's whole garlic cloves (in brine) are excluded from the scope of the order because they are preserved by the addition of other ingredients: August 29, 2025.

A-570-092: Mattresses From China

Requestor: Point A Technologies, Inc. Memory foam mattresses for hospital beds, (34.5 inches wide, 77.5 inches long, and 5.9 inches in depth), adult sized, with and without covers, produced by Zhongshan Getop Medical and Healthcare Equipment Co., Ltd., exported by Zhong Joiner Imp. and Exp. Co., Ltd, and imported by Point A Technologies, Inc. are covered by the scope of the AD order on mattresses from China because the measurements are within a reasonable range compared to the nominal measurements for an adult mattress listed in the scope of the order: August 1, 2025.

A-570-106 and C-570-107: Wooden Cabinets and Vanities and Components Thereof From China

Requestor: RST Brands, LLC. Flow Wall cabinets are covered by the scope of the AD/CVD orders on wooden cabinets and vanities and components thereof from China because the product specifications and the materials used in production are outlined in the scope of the AD/CVD orders. Also, these Flow Wall cabinets rely on brackets and rails to hold the cabinets in place, which is a method of permanent installation: August 25, 2025.

Thailand

A-549-848: Truck and Bus Tires From Thailand

Requestor: Yokohama TWS North America, Inc. (Yokohama TWS). The scope of the AD/CVD orders on truck and bus tires from Thailand applies to all tires with a `TR' or `HC' suffix in their size designations and have, at the time of importation, the symbol `DOT' on the sidewall, certifying that the tire conforms to applicable motor vehicle safety standards. The scope also notes that if the tires lack one of the above suffix markings, the tires must fit trucks or buses. Yokohama's TR-900 Series Truck Tires do include a sidewall “TR” marking; however, the marking does not refer to a size designation; rather, it designates the tread pattern. The TR-900 tires do not include a “DOT” symbol on the sidewall at the time of importation. Lastly, Yokohama TWS does not import any TR-900 tires with a size designation suitable for use as a truck or bus tire. Therefore, Yokohama's TR-900 series tires are outside the scope of the orders: July 22, 2025.

Preliminary Determinations

Mexico

A-201-859: Mattresses From Mexico

Requestor: Bob Barker Company Inc. Mattresses assembled in Mexico using U.S.-origin mattress cores and imported by Bob Barker Company Inc. are preliminarily determined to not be covered by the scope of the AD order on mattresses from Mexico because the U.S.-origin mattress cores are not substantially transformed when used to produce covered mattresses in Mexico and have a country of origin of the United States: September 26, 2025.

China

A-570-967 and C-570-968: Aluminum Extrusions From China

Requestor: HTM MBS LLC. Wall standoffs and components thereof imported by HTM MBS LLC are preliminarily determined to be covered by the scope of the AD/CVD orders on aluminum extrusions from China because they consist of extruded aluminum components and do not meet the requirements for the finished merchandise or finished goods kit scope exclusions: August 22, 2025.

Notification to Interested Parties

Interested parties are invited to comment on the completeness of this list of completed scope inquiries. Any comments should be submitted to the Deputy Assistant Secretary for AD/CVD Operations, Enforcement and Compliance, International Trade Administration, via email to CommerceCLU@trade.gov.

This notice is published in accordance with 19 CFR 351.225(o).

Dated: January 21, 2026.
Scot Fullerton,
Acting Deputy Assistant Secretary for Antidumping and Countervailing Duty Operations.

[FR Doc. 2026-01455 Filed 1-23-26; 8:45 am]

BILLING CODE 3510-DS-P